DEPARTMENT OF AGRICULTURE

Office of Advocacy and Outreach

Advisory Committee on Minority Farmers; Notice of Solicitation for Membership

AGENCY: Departmental Management, Office of Advocacy and Outreach (OAO), USDA.

ACTION: Notice of solicitation for membership.

SUMMARY: We are giving notice that the Secretary is soliciting nominations for membership for this Committee to serve for 2-year terms.

DATES: Consideration will be given to nominations received on or before May 31st, 2013.

ADDRESSES: Nominations should be addressed to the person listed under FOR FURTHER INFORMATION CONTACT.

FOR FURTHER INFORMATION CONTACT: Mrs. Kenya Nicholas, Designated Federal Officer, USDA OAO, 1400 Independence Avenue, Room 520-A, Washington, DC 20250-0170; Telephone (202) 720-6350; Fax (202) 720-7704; Email: ACMF@osec.usda.gov.

SUPPLEMENTARY INFORMATION: The Advisory Committee for Minority Farmers (ACMF) will advise the Secretary of Agriculture on strategies to heighten participation of historically socially disadvantaged farmers and ranchers in the USDA's assistance programs. The ACMF will also advise the Secretary on outreach and administration of competitive grants programs and how the USDA may enhance its efforts to build an inclusive future for this targeted group of minority farmers. The ACMF may also look at the civil rights activities of USDA and how they affect USDA programs in general.

Terms for the current members of the Committee are set to expire in May 2013. We are therefore soliciting nominations from socially disadvantaged ranching and farming producers, civil rights professionals, private nonprofit organizations that support socially disadvantaged producers; and higher education institutions that work with socially disadvantaged producers. The membership term shall be 2 years from the date of appointment. The Secretary may also appoint others as deemed necessary and appropriate to fulfill the ACMF charter. The Committee Chair—who shall be the Assistant Secretary for Administration—will be appointed by the Secretary.

An organization may nominate individuals from within or outside its membership; alternatively, an individual may nominate herself or himself. Current members may likewise apply for reappointment. Nomination packages should include a nomination form along with a cover letter or resume that documents the nominee's background and experience. Nomination forms are available on the Internet at http://www.ocio.usda.gov/forms/doc/AD-755.pdf or may be obtained from Mrs. Kenya Nicholas at the address or telephone number noted above. The Secretary will select 20 members to obtain the broadest possible representation on the Committee, in accordance with the Federal Advisory Committee Act (5 U.S.C. App.2) and U.S. Department of Agriculture (USDA) Regulation 1041-1. Equal opportunity practices, in line with the USDA policies, will be followed in all appointments to the Committee. To ensure that the recommendations of the Committee have taken into account the needs of the diverse groups served by the Department, membership should include, to the extent practicable, individuals with demonstrated ability to represent minorities, women, and persons with disabilities.

Completed in Washington, DC, this 22nd day of April, 2013.
Carolyn C. Parker,
Director, Office of Advocacy and Outreach.

[FR Doc. 2013-10059 Filed 4-29-13; 8:45 am]

BILLING CODE P